DEPARTMENT OF COMMERCE

National Oceanic and Atmospheric Administration

RIN 0648-XD620

Gulf of Mexico Fishery Management Council (Council); Public Meeting

AGENCY: National Marine Fisheries Service (NMFS), National Oceanic and Atmospheric Administration (NOAA), Commerce. Administration (NOAA), Commerce.

ACTION: Notice of a public meeting.

SUMMARY: The Gulf of Mexico Fishery Management Council (Council) will hold a meeting of its Ad Hoc Red Snapper For-Hire Advisory Panel.

DATES: The meeting will convene at 9 a.m. on Tuesday, December 2 until 12 noon on Wednesday, December 3, 2014.

ADDRESSES: Meeting address: The meeting will be held at the DoubleTree Tampa Airport Westshore hotel, located at 4500 West Cypress Street, Tampa, FL 33607.

Council address: Gulf of Mexico Fishery Management Council, 2203 North Lois Avenue, Suite 1100, Tampa, FL 33607.

FOR FURTHER INFORMATION CONTACT: Dr. Assane Diagne, Economist, Gulf of Mexico Fishery Management Council; telephone: (813) 348-1630; fax: (813) 348-1711; email: assane.diagne@gulfcouncil.org.

SUPPLEMENTARY INFORMATION: The items of discussion on the agenda are as follows:

Ad Hoc Red Snapper For-Hire Advisory Panel Agenda, Tuesday, December 2, 2014, 9 a.m. Until Wednesday, December 3, 2014, 12 Noon

1. Adoption of Agenda

2. Elections (Chair and Vice-Chair)

3. Charge to the AP

4. Overview of the For-Hire Component

5. For-Hire Data Collection

6. Overview of Management Techniques in Fisheries

7. Management Experiment in the Gulf: The Headboat Collaborative

8. Short and Long Term Potential Management Measures

9. Recommendations to the Council

10. Other Business

11. Next Steps

This agenda may be modified as necessary to facilitate the discussion of pertinent materials up to and during the scheduled meeting.

For meeting materials, visit the Council's Web site (http://www.gulfcouncil.org) and click on the FTP link in the lower left corner of the Web site. The username and password are both “gulfguest”. See folder “Ad Hoc Red Snapper For-Hire Advisory Panel meeting—2014—12” on Gulf Council file server. The meeting will be webcast over the internet. A link to the webcast will be available on the Council's Web site under “meetings”.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Kathy Pereira at the Council Office (see ADDRESSES), at least 5 working days prior to the meeting.

Note: The times and sequence specified in this agenda are subject to change.

Authority: 16. U.S.C. 1801 et seq.

Dated: November 12, 2014.
Tracey L. Thompson,
Acting Deputy Director, Office of Sustainable Fisheries, National Marine Fisheries Service.

[FR Doc. 2014-27122 Filed 11-14-14; 8:45 am]

BILLING CODE 3510-22-P